DEPARTMENT OF THE INTERIOR

Bureau of Land Management

[LLCAC069 L1711.0000 AL.0000 025B]

Call for Nominations for the Carrizo Plain National Monument Advisory Council, California

AGENCY: Bureau of Land Management, Interior.

ACTION: Notice.

SUMMARY: The Bureau of Land Management (BLM) is soliciting nominations from the public to fill four positions on the Carrizo Plain National Monument Advisory Committee (MAC). MAC members provide advice and recommendations to the BLM on the management of public lands in the Carrizo Plain National Monument.

ADDRESSES: Nominations should be sent to the Monument Manager, Bureau of Land Management, Bakersfield Field Office, 3801 Pegasus Drive, Bakersfield, CA 93308.

FOR FURTHER INFORMATION CONTACT: Johna Hurl, Monument Manager, Bakersfield Field Office, 3801 Pegasus Drive, Bakersfield, CA 93308, (661) 391-6093, Johna_Hurl@ca.blm.gov or John Kelley, Carrizo Program Support Technician, at (661) 391-6088, jtkelley@blm.gov.

SUPPLEMENTARY INFORMATION: The Federal Land Policy and Management Act of 1976 (FLPMA) (43 U.S.C. 1739) directs the Secretary of the Interior (Secretary) to involve the public in planning and issues related to management of lands administered by the BLM. Section 309 of FLPMA directs the Secretary to establish 10- to 15-member citizen-based advisory councils that conform to the requirements of the Federal Advisory Committee Act (FACA). The rules governing advisory councils are found at 43 CFR subpart 1784. As required by FACA, MAC membership must be balanced and representative of the various interests concerned with the management of the public lands.

The MAC provides representative citizen counsel and advice to the Secretary of the Interior through the BLM with respect to the revision and implementation of the comprehensive plan for the Carrizo Plain National Monument.

The MAC consists of ten members:

(1) A member of, or nominated by, the San Luis Obispo Board of Supervisors;

(2) A member of, or nominated by, the Kern County Board of Supervisors;

(3) A member of, or nominated by, the Carrizo Native American Advisory Council;

(4) A member of, or nominated by, the Central California Resource Advisory Council (RAC);

(5) A member representing individuals or companies authorized to graze livestock within the Monument; and

(6) Five members with recognized backgrounds reflecting:

(i) The purposes for which the Monument was established; and

(ii) The interests of other stakeholders, including the general public, who are affected by or interested in the planning and management of the Monument.

Terms of four present MAC members (two public-at-large, one Kern County Board of Supervisors, one RAC) expired on August 25, 2011. Individuals may nominate themselves or others. Nominees must be residents of the counties or neighboring county in which the MAC has jurisdiction. The BLM will evaluate nominees based on their education, training, experience, and knowledge of the geographical resource. Nominees should demonstrate a commitment to collaborative resource decision-making. The Obama Administration prohibits individuals who are currently federally registered lobbyists from being appointed or re-appointed to FACA and non-FACA boards, committees, or councils. The following must accompany all nominations received in this call for nominations:

• Letters of reference from represented interests or organizations;

• A completed background information nomination form; and

• Any other information that speaks to the nominee's qualifications.

Nominations will be accepted for a 60-day period beginning the date this notice is published.

Timothy Z. Smith,
Field Manager, Bakersfield Field Office.

[FR Doc. 2012-126 Filed 1-6-12; 8:45 am]

BILLING CODE 4310-40-P